DEPARTMENT OF DEFENSE

Office of the Secretary

Membership of the Defense Contract Audit Agency Senior Executive Service Performance Review Boards

AGENCY: Defense Contract Audit Agency, DoD.

ACTION: Notice of membership of the Defense Contract Audit Agency Senior Executive Service Performance Review Boards.

SUMMARY: This notice announces the appointment of members to the Defense Contract Audit Agency (DCAA) Performance Review Boards. The Performance Review Boards provide fair and impartial review of Senior Executive Service (SES) performance appraisals and make recommendations to the Director, Defense Contract Audit Agency, regarding final performance ratings and performance awards for DCAA SES members.

EFFECTIVE DATE: May 30, 2002.

FOR FURTHER INFORMATION CONTACT: Mr. Dale R. Collins, Chief, Human Resources Management Division, Defense Contract Audit Agency, 8725 John J. Kingman Road, Suite 2135, Fort Belvoir, Virginia 22060-6219, (703) 767-1039.

SUPPLEMENTARY INFORMATION: In accordance with 5 U.S.C. 4314(c)(4), the following are the names and titles of DCAA career executives appointed to serve as members of the DCAA Performance Review Boards. Appointees will serve one-year terms, effective upon publication of this notice.

Headquarters Performance Review Board

Mr. Earl Newman, Assistant Director, Operations, DCAA, Chairperson.

Mr. Lawrence Uhlfelder, Assistant Director, Policy and Plans, DCAA, member.

Mr. Kirk Moberley, General Counsel, DCAA, member.

Regional Performance Review Board

Ms. Barbara Reilly, Regional Director, Mid-Atlantic Region, DCAA, Chairperson.

Mr. David Dzivak, Regional Director, Northeast Region, DCAA, member.

Mr. Christopher Andrezze, Deputy Regional Director, Western Region, DCAA, member.

Dated: May 24, 2002.
Patricia L. Toppings,
Alternate OSD Federal Register Liaison Officer, Department of Defense.

[FR Doc. 02-13592 Filed 5-29-02; 8:45 am]

BILLING CODE 5001-08-M